DEPARTMENT OF DEFENSE

Department of the Air Force

[Docket ID USAF-2010-0006]

Privacy Act of 1974; System of Records

AGENCY: Department of the Air Force, DoD.

ACTION: Notice to add a system of records.

SUMMARY: The Department of the Air Force proposes to add a system of records to its inventory of record systems subject to the Privacy Act of 1974 (5 U.S.C. 552a), as amended.

DATES: The proposed action will be effective on April 19, 2010 unless comments are received that would result in a contrary determination.

ADDRESSES: You may submit comments, identified by docket number and title, by any of the following methods:

• Federal Rulemaking Portal: http://www.regulations.gov. Follow the instructions for submitting comments.

• Mail: Federal Docket Management System Office, 1160 Defense Pentagon, Washington, DC 20301-1160.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Ben Swilley at (703) 696-7557.

SUPPLEMENTARY INFORMATION: The Department of the Air Force's notices for systems of records subject to the Privacy Act of 1974 (5 U.S.C. 552a), as amended, have been published in the Federal Register and are available from the Air Force Privacy Act Officer, Office of Warfighting Integration and Chief Information Officer, SAF/XCPPF, 1800 Air Force Pentagon, Washington, DC 20330-1800.

The proposed systems reports, as required by 5 U.S.C. 552a(r) of the Privacy Act, were submitted on March 4, 2010 to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996, (February 20, 1996; 61 FR 6427).

Dated: March 15, 2010.
Mitchell S. Bryman,
Alternate OSD Federal Register Liaison Officer, Department of Defense.

F011 AF AFMC B

System name:

Patriot Excalibur (PEX) System Records.

System location:

Patriot Excalibur, 46 TW/XPI, 410I Government Ave., Valparaiso, FL 32579-1601. Segments are also maintained at commands, bases and agencies. Official mailing addresses are published as an appendix to the Air Force compilation of record system notices.

Categories of individuals covered by the system:

Military personnel and civilian employees assigned or attached to HQ Air Force Major Commands, Air National Guard and Air Force Reserve Component personnel.

Categories of records in the system:

Name, Social Security Number (SSN), passport number, home and cell telephone number, home and e-mail address, Major command of assignment, Air Force Specialty Code indicating professional duties, unit, base of assignment, flight and ground professional flying training accomplishments, aircrew qualification status, physical status for flight duties, types of aircraft assigned, and flying incentive pay information needed to administer the payment for each individual.

Authority for maintenance of the system:

10 U.S.C. 8013, Secretary of the Air Force; Air Force Instruction 36-2608, Military Personnel Records System and E.O. 9397 (SSN), as amended.

Purpose(s):

This system will coordinate the activities of military flying squadrons for flight scheduling, aircraft maintenance, Qualification/Continuation training and management of Aircrew Standardization and Evaluation Program. PEX provides information and automated data processing capabilities used to manage and administer Air Force aviation and parachutist management operations such as aircrew and parachutist training and evaluation, flight and jump scheduling functions, flying and parachutist safety and related functions needed to attain and maintain combat or mission readiness.

Routine uses of records maintained in the system, including categories of users and the purposes of such uses:

In addition to those disclosures generally permitted under 5 U.S.C. 552a(b) of the Privacy Act of 1974, these records contained therein may specifically be disclosed outside the DoD as a routine use pursuant to 5 U.S.C. 552a(b)(3) as follows:

The DoD “Blanket Routine Uses” set forth at the beginning of the Air Force's compilation of systems of records notices also apply to this system.

Policies and practices for storing, retrieving, accessing, retaining, and disposing of records in the system:

Storage:

Electronic storage media.

Retrievability:

By individual's name and Social Security Number (SSN).

Safeguards:

Electronic records are maintained within secured buildings in areas accessible only to persons having official need-to-know, and who are properly trained and screened. In addition, the system is a controlled system with passwords, and Common Access Card (CAC) governing access to data. Computer terminals are locked when not in use or kept under surveillance.

Retention and disposal:

Records are deleted from the database when no longer needed for the mission.

System manager(s) and address:

Program Manager, Patriot Excalibur, 46 TW/XPI, 410I Government Ave., Valparaiso, FL 32579-1601.

Notification procedure:

Individuals seeking to determine whether information about themselves is contained in this system should address written inquiries to the local custodians of the record system at the host base. Official mailing addresses are published as an appendix to the Air Force's compilation of systems of records notices. Individuals can also contact Program Manager, Patriot Excalibur, 46 TW/XPI, 410I Government Ave., Valparaiso, FL 32579-1601.

For verification purposes, individual should provide their full name, Social Security Number (SSN), any details which may assist in locating records, and their signature.

Record access procedures:

Individuals seeking to access records about themselves contained in this system should address written requests to the local custodians of the record system at the host base. Official mailing addresses are published as an appendix to the Air Force's compilation of systems of records notices. Individuals can also contact Program Manager, Patriot Excalibur, 46 TW/XPI, 410I Government Ave., Valparaiso, FL 32579-1601.

For verification purposes, individual should provide their full name, Social Security Number (SSN), any details which may assist in locating records, and their signature.

Contesting record procedures:

The Air Force rules for accessing records, contesting contents, and appealing initial agency determinations are published in Air Force Instruction 33-332, Privacy Act Program; 32 Code of Federal Regulations (CFR) part 806b, Air Force Privacy Act Program; or may be obtained from the system manager.

Record source categories:

Individual, the Aviation Resource Management System (ARMS) and other automated system interfaces.

Exemptions claimed for the system:

None.

[FR Doc. 2010-5952 Filed 3-17-10; 8:45 am]

BILLING CODE 5001-06-P